DEPARTMENT OF HEALTH AND HUMAN SERVICES

Administration for Children and Families

Proposed Information Collection Activity; Comment Request

Proposed Projects

Title: Head Start Training and Technical Assistance Assessment.

OMB No.: New Collection.

Description: This data will be used to assess the Head Start Training and Technical Assistance (T/TA) delivery system. Data collected will provide information on the quality of services that Head Start Quality Improvement Centers (QICs) provide to Head Start grantees. Respondents will include QIC staff, collaborative partners of QIC organizations, and Head Start grantees. Specifically, site visit interviews will be conducted with QIC Directors and QIC Area Specialists, while telephone interviews will be conducted with QIC Directors, Grantee Directors, and Partner Agencies.

Training and technical assistance are critical in supporting the continuous improvement efforts of Head Start grantee and delegate agencies serving children birth to five and their families. The report of the Advisory Committee on Head Start Quality and Expansion in December 1993 reaffirmed the importance of T/TA and recommended that the Head Start Bureau reassess and design the T/TA system to support program quality and expansion. The Head Start Act of 1994 (Pub. L. 103-252) also emphasized the importance of T/TA and stated that T/TA activities must ensure that needs of local Head Start agencies relating to improving program quality and expansion are addressed to the maximum extent feasible. The Advisory Committee on Services for Families with Infants and Toddlers also stressed the need for ongoing staff training and training programs to ensure that staff are “cross-trained” in the areas of child development, family development, and community building.

The assessment is designed to gather information for program management and planning purposes about the kind and quality of services provided by each QIC. Information collected will be used by the Bureau to: (1) Identify the quality of approaches undertaken in each phase of the strategic planning cycle; (2) identify any patterns or changes over time in the delivery of T/TA; and (3) determine the feasibility of future initiatives and funding decisions. The data collected will provide a means for the Head Start Bureau to carry out the Federal role outlined in the Cooperative Agreement establishing the QICs. These data also may be used, in part, to fulfill the Department's requirement to report to Congress on the Head Start program under the Government Performance and Results Act (GPRA).

Respondents: Head Start Partner Agencies and Head Start Quality Improvement Centers.

Annual Burden Estimates
Instrument | Number of respondents | Number of responses per respondent | Average burden hours per response | Total burden hours
QIC Director, Site Visit Interview | 28 | 30 | .1 | 84
QIC Area Specialist, Site Visit Interview | 116 | 19 | .16 | 353
QIC Director, Telephone Interview | 28 | 8 | .19 | 42
Head Start Partner, Agency Telephone Interview | 112 | 11 | .09 | 112
Grantee Director, Telephone Interview | 256 | 18 | .11 | 512

Estimated Total Annual Burden Hours: 1103.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, Division of Information Resource Management Services, 370 L'Enfant Promenade, SW, Washington, DC 20447, Attn: ACF Reports Clearance Officer. All requests should be identified by the Title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 1, 2000.
Bob Sargis,
Reports Clearance Officer.

[FR Doc. 00-2663 Filed 2-8-00; 8:45 am]

BILLING CODE 4184-01-M